FEDERAL COMMUNICATIONS COMMISSION

47 CFR Part 73

[DA 00-2361; MM Docket No. 00-66; RM-9842]

Radio Broadcasting Services; Des Moines, NM

AGENCY: Federal Communications Commission.

ACTION: Final rule.

SUMMARY: The Commission, at the request of Willison H. Gormly d/b/a/ Sierra Grande Broadcasting, allots Channel 287C to Des Moines, NM, as the community's first local aural service. See 65 FR 25697. May 3, 2000. Channel 287C can be allotted to Des Moines in compliance with the Commission's minimum distance separation requirements without the imposition of a site restriction, at coordinates 36-45-48 NL; 103-50-12 WL. A filing window for Channel 287C at Des Moines will not be opened at this time. Instead, the issue of opening a filing window for this channel will be addressed by the Commission in a subsequent order.

DATES: Effective December 11, 2000.

FOR FURTHER INFORMATION CONTACT: Leslie K. Shapiro, Mass Media Bureau, (202) 418-2180.

SUPPLEMENTARY INFORMATION: This is a synopsis of the Commission's Report and Order, MM Docket No. 00-66, adopted October 11, 2000, and released October 20, 2000. The full text of this Commission decision is available for inspection and copying during normal business hours in the FCC Reference Center (Room 239), 445 12th Street, SW, Washington, DC. The complete text of this decision may also be purchased from the Commission's copy contractor, International Transcription Services, Inc., (202) 857-3800, 1231 20th Street, NW, Washington, DC 20036.

List of Subjects in 47 CFR Part 73

Radio broadcasting.

Part 73 of title 47 of the Code of Federal Regulations is amended as follows:

47 CFR PART 73—RADIO BROADCAST SERVICES

1. The authority citation for part 73 continues to read as follows:

Authority: 47 U.S.C. 154, 303, 334. 336.

§ 73.202 [Amended]

2. Section 73.202(b), the Table of FM Allotments under New Mexico, is amended by adding Des Moines, Channel 287C.

Federal Communications Commission.
John A. Karousos,
Chief, Allocations Branch, Policy and Rules Division, Mass Media Bureau.

[FR Doc. 00-28880 Filed 11-9-00; 8:45 am]

BILLING CODE 6712-01-P